NEIGHBORHOOD REINVESTMENT CORPORATION

Sunshine Act Meetings; Regular Board of Directors Meeting

TIME AND DATE: 12:00 p.m., Wednesday, December 19, 2018.

PLACE: NeighborWorks America—Gramlich Boardroom, 999 North Capitol Street NE, Washington DC 20002.

STATUS: Open (with the exception of Executive Session).

MATTERS TO BE CONSIDERED: The General Counsel of the Corporation has certified that in his opinion, one or more of the exemptions set forth in 5 U.S.C. 552 (b)(2) and (4) permit closure of the following portion(s) of this meeting:

• Report from CEO

• Internal Audit Report

Agenda

I. Call to Order

II. Approval of Minutes

III. Executive Session: Report from CEO

IV. Action Item Client Management System (CMS)

V. Action Item LIFT 6.0

VI. Discussion Item Delegation of Authority

VII. Management Program Background and Updates

VIII. Adjournment

CONTACT PERSON FOR MORE INFORMATION: Rutledge Simmons, EVP & General Counsel/Secretary, (202) 760-4105; Rsimmons@nw.org.

Rutledge Simmons,
EVP & General Counsel/Corporate Secretary.

[FR Doc. 2018-26585 Filed 12-3-18; 4:15 pm]

BILLING CODE 7570-02-P